DEPARTMENT OF DEFENSE

GENERAL SERVICES ADMINISTRATION

NATIONAL AERONAUTICS AND SPACE ADMINISTRATION

48 CFR Part 16

[Correction; FAC 2005-55; FAR Case 2005-037; Item III; Docket 2006-0020, Sequence 26]

RIN 9000-AK55

Federal Acquisition Regulation; Brand-Name Specifications; Correction

AGENCY: Department of Defense (DoD), General Services Administration (GSA), and National Aeronautics and Space Administration (NASA).

ACTION: Correction.

SUMMARY: This document contains a correction to the final rule that was published in the Federal Register at 77 FR 194 on January 3, 2012.

DATES: Effective Date: February 2, 2012.

FOR FURTHER INFORMATION CONTACT: The Regulatory Secretariat, at 1275 First Street NE., Washington, DC 20417, or (202) 501-4755, for information pertaining to status or publication schedules. Please cite FAC 2005-55, FAR Case 2005-037; Correction.

SUPPLEMENTARY INFORMATION:

Background

DoD, GSA, and NASA have adopted as final, with changes, the interim rule amending the Federal Acquisition Regulation (FAR) to implement the Office of Management and Budget memoranda on brand-name specifications, FAR Case 2005-037, Brand-Name Specifications, which published in the Federal Register at 77 FR 189 on January 3, 2012.

Correction

In the final rule document appearing at 77 FR 189 on January 3, 2012, on page 194, first column, amendatory instruction 9.b., for FAR section 16.505, is corrected to read as follows:

“b. Redesignating paragraphs (a)(4) through (a)(11) as paragraphs (a)(5) through (a)(12), respectively; and”

Dated: January 18, 2012.
Laura Auletta,
Director, Office of Governmentwide Acquisition Policy, Office of Acquisition Policy, Office of Governmentwide Policy.

[FR Doc. 2012-1438 Filed 1-24-12; 8:45 am]

BILLING CODE 6820-EP-P